DEPARTMENT OF THE TREASURY

Office of Foreign Assets Control

31 CFR Part 591

Publication of Venezuela Sanctions Regulations Web General Licenses 3I, 5M, 9H, 43, 44, and 45

AGENCY: Office of Foreign Assets Control, Treasury.

ACTION: Publication of Web General Licenses.

SUMMARY: The Department of the Treasury's Office of Foreign Assets Control (OFAC) is publishing six general licenses (GLs) issued pursuant to the Venezuela Sanctions Regulations: GLs 3I, 5M, 9H, 43, 44, and 45, each of which was previously made available on OFAC's website.

DATES: GLs 3I, 5M, 9H, 43, 44, and 45 were issued on October 18, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On October 18, 2023, OFAC issued GLs 3I, 5M, 9H, 43, 44, and 45 to authorize certain transactions otherwise prohibited by the Venezuela Sanctions Regulations (VSR), 31 CFR part 591, or authorities incorporated therein. Each GL was made available on OFAC's website (https://ofac.treasury.gov) when it was issued. GL 3I supersedes GL 3H, which was issued on May 12, 2020. GL 5M supersedes GL 5L, which was issued on July 19, 2023. GL 9H supersedes GL 9G, which was issued May 12, 2020. GL 44 has an expiration date of April 18, 2024. The text of these GLs is provided below.

OFFICE OF FOREIGN ASSETS CONTROL

Venezuela Sanctions Regulations

31 CFR Part 591

GENERAL LICENSE NO. 3I

Authorizing Transactions Related to, Provision of Financing for, and Other Dealings in Certain Bonds

(a) Except as provided in paragraphs (e) and (f) of this general license, all transactions related to, the provision of financing for, and other dealings in bonds specified in the Annex to this general license (GL 3I Bonds) that would be prohibited by Subsection 1(a)(iii) of Executive Order (E.O.) 13808 of August 24, 2017 or by E.O. 13850 of November 1, 2018, each as amended by E.O. 13857 of January 25, 2019, or by E.O. 13884 of August 5, 2019, as collectively incorporated into the Venezuela Sanctions Regulations, 31 CFR part 591 (the VSR), are authorized, including, on or after October 18, 2023, divestment or transfer of, or facilitation of divestment or transfer of, any holdings in such bonds to a U.S. person.

(b) Except as provided in paragraph (f) of this general license, U.S. persons are authorized to engage in all transactions prohibited by Subsection 1(a)(iii) of E.O. 13808 or by E.O. 13850, each as amended, or by E.O. 13884, as collectively incorporated into the VSR, that are ordinarily incident and necessary to facilitating, clearing, and settling trades of holdings in GL 3I Bonds, provided such trades were placed prior to 4:00 p.m. eastern standard time on February 1, 2019.

(c) Except as provided in paragraph (f) of this general license, all transactions and activities prohibited by Subsection 1(a)(iii) of E.O. 13808 or by E.O. 13850, each as amended, or by E.O. 13884, as collectively incorporated into the VSR, that are ordinarily incident and necessary to the wind down of financial contracts or other agreements that were entered into prior to 4:00 p.m. eastern standard time on February 1, 2019, involving, or linked to, GL 3I Bonds are authorized. This authorization is valid through 12:01 a.m. eastern daylight time, March 31, 2020.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than PDV Holding, Inc. (PDVH), CITGO Holding, Inc., and any of their subsidiaries, that would be prohibited by E.O. 13808 or E.O. 13850, each as amended, or by E.O. 13884, as collectively incorporated into the VSR, are authorized.

(e) Paragraph (a) of this general license does not authorize U.S. persons to sell, or to facilitate the sale of, GL3I Bonds to, directly or indirectly, any person whose property and interests in property are blocked pursuant to the VSR.

(f) This general license does not authorize:

(1) The unblocking of any property blocked pursuant to the VSR, or any other part of 31 CFR chapter V, except as authorized by paragraphs (a), (b), (c), and (d); or

(2) Any transactions or activities otherwise prohibited by the VSR, or any other part of 31 CFR chapter V, or any transactions or activities with any blocked persons other than transactions or activities involving the Government of Venezuela, including Banco Central de Venezuela, that are described in this general license.

(g) Effective October 18, 2023, General License No. 3H, dated May 12, 2020, is replaced and superseded in its entirety by this General License No. 3I.

Bradley T. Smith,

Director,

Office of Foreign Assets Control.

Dated: October 18, 2023.

Annex—Venezuela-Related Bonds Described in Paragraph (a) of General License 3I (GL 3I Bonds)

List of GL 3I Bonds, as of October 18, 2023:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | (*) | 9/15/2027
XS0081488644 | 922655CQ6 | Venezuela Global Strip | 0 | (*) | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026
# N/A Field Not Applicable.

OFFICE OF FOREIGN ASSETS CONTROL

Venezuela Sanctions Regulations

31 CFR Part 591

GENERAL LICENSE NO. 5M

Authorizing Certain Transactions Related to the Petróleos de Venezuela, S.A. 2020 8.5 Percent Bond on or After January 18, 2024

(a) Except as provided in paragraph (b) of this general license, on or after January 18, 2024, all transactions related to, the provision of financing for, and other dealings in the Petróleos de Venezuela, S.A. 2020 8.5 Percent Bond that would be prohibited by subsection l(a)(iii) of Executive Order (E.O.) 13835 of May 21, 2018, as amended by E.O. 13857 of January 25, 2019, and incorporated into the Venezuela Sanctions Regulations, 31 CFR part 591 (the VSR), are authorized.

(b) This general license does not authorize any transactions or activities otherwise prohibited by the VSR, or any other part of 31 CFR chapter V.

(c) Effective October 18, 2023, General License No. 5L, dated July 19, 2023, is replaced and superseded in its entirety by this General License No. 5M.

Bradley T. Smith,

Director,

Office of Foreign Assets Control.

Dated: October 18, 2023.

OFFICE OF FOREIGN ASSETS CONTROL

Venezuela Sanctions Regulations

31 CFR Part 591

GENERAL LICENSE NO. 9H

Authorizing Transactions Related to Dealings in Certain Securities

(a) Except as provided in paragraphs (f) and (g) of this general license, all transactions and activities prohibited by Subsection 1(a)(iii) of Executive Order (E.O.) 13808 of August 24, 2017 or by E.O. 13850 of November 1, 2018, each as amended by E.O. 13857 of January 25, 2019, or by E.O. 13884 of August 5, 2019, as collectively incorporated into the Venezuela Sanctions Regulations, 31 CFR part 591 (the VSR), that are ordinarily incident and necessary to dealings in any debt (including the bonds listed on the Annex to this general license, promissory notes, and other receivables) of, or any equity in, Petróleos de Venezuela, S.A. (PdVSA) or any entity in which PdVSA owns, directly or indirectly, a 50 percent or greater interest, issued prior to August 25, 2017 (the effective date of E.O. 13808) (together, “PdVSA Securities”), are authorized, including, on or after October 18, 2023, divestment or transfer of, or facilitation of divestment or transfer of, any holdings in such PdVSA Securities to a U.S. person.

(b) The transactions and activities authorized in paragraph (a) include facilitating, clearing, and settling transactions to divest PdVSA Securities, including on behalf of U.S. persons.

(c) Except as provided in paragraph (g) of this general license, all transactions and activities prohibited by Subsection 1(a)(iii) of E.O. 13808 or by E.O. 13850, each as amended, or by E.O. 13884, as collectively incorporated into the VSR, that are ordinarily incident and necessary to facilitating, clearing, and settling trades of holdings in PdVSA Securities are authorized, provided such trades were placed prior to 4:00 p.m. eastern standard time on January 28, 2019.

(d) Except as provided in paragraph (g) of this general license, all transactions and activities prohibited by Subsection 1(a)(iii) of E.O. 13808 or by E.O 13850, each as amended, or by E.O. 13884, as collectively incorporated into the VSR, that are ordinarily incident and necessary to the wind down of financial contracts or other agreements that were entered into prior to 4:00 p.m. eastern standard time on January 28, 2019, involving, or linked to, PdVSA Securities are authorized. This authorization is valid through 12:01 a.m. eastern daylight time, March 31, 2020.

(e) Except as provided in paragraph (g) of this general license, all transactions and activities prohibited by Subsection 1(a)(iii) of E.O. 13808 or by E.O. 13850, each as amended, or by E.O. 13884, as collectively incorporated into the VSR, that are ordinarily incident and necessary to dealings in any bonds that were issued prior to August 25, 2017 (the effective date of E.O. 13808) by the following entities or any of their subsidiaries, are authorized:

• PDV Holdings, Inc.

• CITGO Holdings, Inc.

(f) Paragraph (a) of this general license does not authorize U.S. persons to sell, or to facilitate the sale of, PdVSA Securities to, directly or indirectly, any person whose property and interests in property are blocked pursuant to the VSR.

(g) This general license does not authorize:

(1) The unblocking of any property blocked pursuant to the VSR, or any other part of 31 CFR chapter V, except as authorized by paragraphs (a), (c), (d), and (e); or

(2) Any transactions or activities otherwise prohibited by the VSR, or any other part of 31 CFR chapter V, or any transactions or activities with any blocked persons other than transactions or activities involving Government of Venezuela, including Banco Central de Venezuela, PdVSA, or any entity in which PdVSA owns, directly or indirectly, a 50 percent or greater interest, that are described in this general license.

(h) Effective October 18, 2023, General License No. 9G, dated May 12, 2020, is replaced and superseded in its entirety by this General License No. 9H.

Bradley T. Smith,

Director,

Office of Foreign Assets Control.

Dated: October 18, 2023.

Annex—Bonds Described in Paragraph (a) of General License 9H List of Bonds

Described in Paragraph (a) of General License 9H, as of October 18, 2023:

ISIN | CUSIP | Issuer name | Cpn | Issue date | Maturity
XS0294364954 | EG3110533 | Petroleos de Venezuela SA | 5.375 | 4/12/2007 | 4/12/2027
XS0294367205 | EG3110772 | Petroleos de Venezuela SA | 5.5 | 4/12/2007 | 4/12/2037
USP7807HAK16 | EI4173619 | Petroleos de Venezuela SA | 8.5 | 10/29/2010 | 11/2/2017
US716558AB79 | 716558AB7 | Petroleos de Venezuela SA | 8.5 | 10/29/2010 | 11/2/2017
US716558AC52 | 716558AC5 | Petroleos de Venezuela SA | 12.75 | 2/17/2011 | 2/17/2022
USP7807HAM71 | EI5787318 | Petroleos de Venezuela SA | 12.75 | 2/17/2011 | 2/17/2022
US716558AD36 | 716558AD3 | Petroleos de Venezuela SA | 9 | 11/17/2011 | 11/17/2021
USP7807HAP03 | EI8799468 | Petroleos de Venezuela SA | 9 | 11/17/2011 | 11/17/2021
USP7807HAQ85 | EJ1968233 | Petroleos de Venezuela SA | 9.75 | 5/17/2012 | 5/17/2035
US716558AE19 | 716558AE1 | Petroleos de Venezuela SA | 9.75 | 5/17/2012 | 5/17/2035
USP7807HAR68 | EJ9776299 | Petroleos de Venezuela SA | 6 | 11/15/2013 | 11/15/2026
US716558AF83 | 716558AF8 | Petroleos de Venezuela SA | 6 | 11/15/2013 | 11/15/2026
USP7807HAT25 | EK2909308 | Petroleos de Venezuela SA | 6 | 5/16/2014 | 5/16/2024
US716558AG66 | 716558AG6 | Petroleos de Venezuela SA | 6 | 5/16/2014 | 5/16/2024
XS1126891685 | JV9618804 | Petroleos de Venezuela SA | 6 | 10/28/2014 | 10/28/2022
USP7807HAV70 | QZ9940003 | Petroleos de Venezuela SA | 8.5 | 10/28/2016 | 10/27/2020
US716558AH40 | 716558AH4 | Petroleos de Venezuela SA | 8.5 | 10/28/2016 | 10/27/2020
USG70415AC18 | DD0110070 | Petrozuata Finance Inc | 8.37 | 6/27/1997 | 10/1/2022
US71676QAE61 | 71676QAE6 | Petrozuata Finance Inc | 8.37 | 6/27/1997 | 10/1/2022
USG2025MAB75 | CP5100153 | Cerro Negro Finance Ltd | 7.9 | 6/18/1998 | 12/1/2020
US156877AC63 | 156877AC6 | Cerro Negro Finance Ltd | 8.03 | 6/18/1998 | 6/1/2028
USG2025MAC58 | CP5100211 | Cerro Negro Finance Ltd | 8.03 | 6/18/1998 | 6/1/2028
US156877AB80 | 156877AB8 | Cerro Negro Finance Ltd | 7.9 | 6/18/1998 | 12/1/2020
XS0356521160 | EH2888749 | CA La Electricidad de Caracas | 8.5 | 4/10/2008 | 4/10/2018

OFFICE OF FOREIGN ASSETS CONTROL

Venezuela Sanctions Regulations

31 CFR Part 591

GENERAL LICENSE NO. 43

Authorizing Transactions Involving CVG Compania General de Mineria de Venezuela CA

(a) Except as provided in paragraph (b) of this general license, all transactions involving CVG Compania General de Mineria de Venezuela CA (Minerven), or any entity in which Minerven owns, directly or indirectly, a 50 percent or greater interest, that are prohibited by Executive Order (E.O.) 13850, as amended by E.O. 13857, or E.O. 13884, each as incorporated into the Venezuela Sanctions Regulations, 31 CFR part 591 (the VSR), are authorized.

(b) This general license does not authorize any transactions otherwise prohibited by the VSR, including any transactions involving any person blocked pursuant to the VSR other than the blocked persons described in paragraph (a) of this general license, Government of Venezuela persons blocked solely pursuant to E.O. 13884, Banco Central de Venezuela, or Banco de Venezuela SA Banco Universal.

Bradley T. Smith,

Director, Office of Foreign Assets Control.

Dated: October 18, 2023.

OFFICE OF FOREIGN ASSETS CONTROL

Venezuela Sanctions Regulations

31 CFR Part 591

GENERAL LICENSE NO. 44

Authorizing Transactions Related to Oil or Gas Sector Operations in Venezuela

(a) Except as provided in paragraph (b) of this general license, all transactions prohibited by the Venezuela Sanctions Regulations, 31 CFR part 591 (the VSR), including transactions involving Petróleos de Venezuela, S.A. (PdVSA) or any entity in which PdVSA owns, directly or indirectly, a 50 percent or greater interest (collectively, “PdVSA Entities”), that are related to oil or gas sector operations in Venezuela are authorized through 12:01 a.m. eastern daylight time, April 18, 2024, including:

(1) Production, lifting, sale, and exportation of oil or gas from Venezuela, and provision of related goods and services;

(2) Payment of invoices for goods or services related to oil or gas sector operations in Venezuela; ·

(3) New investment in oil or gas sector operations in Venezuela; and

(4) Delivery of oil and gas from Venezuela to creditors of the Government of Venezuela, including creditors of PdVSA Entities, for the purpose of debt repayment.

(b) This general license does not authorize:

(1) Any transactions involving any financial institution blocked pursuant to Executive Order (E.O.) 13850 other than Banco Central de Venezuela or Banco de Venezuela SA Banco Universal;

(2) The provision of goods or services to, or new investment in, an entity located in Venezuela that is owned or controlled by, or a joint venture with, an entity located in the Russian Federation;

(3) Any transactions related to new investment in oil or gas sector operations in Venezuela by a person located in the Russian Federation or any entity owned or controlled by a person located in the Russian Federation;

(4) Any transactions prohibited by subsections l(a)(i)-(iii) or l(b) of E.O. 13808, other than the transactions described in paragraphs (a)(2) and (a)(4) of this general license;

(5) Any transactions prohibited by E.O. 13827 or E.O. 13835; or

(6) The unblocking of any property blocked pursuant to the VSR.

Note to General License No. 44. Nothing in this general license relieves any person from compliance with the requirements of other Federal agencies, including the Department of Commerce's Bureau of Industry and Security.

Bradley T. Smith,

Director, Office of Foreign Assets Control.

Dated: October 18, 2023.

OFFICE OF FOREIGN ASSETS CONTROL

Venezuela Sanctions Regulations

31 CFR Part 591

GENERAL LICENSE NO. 45

Authorizing Certain Repatriation Transactions Involving Consorcio Venezolano de Industrias Aeronáuticas y Servicios Aéreos, S.A.

(a) Except as provided in paragraph (b) of this general license, all transactions ordinarily incident and necessary to the repatriation of Venezuelan nationals from non-U.S. jurisdictions in the Western Hemisphere to Venezuela, and are exclusively for the purposes of such repatriation, involving Consorcio Venezolano de Industrias Aeronáuticas y Servicios Aéreos, S.A. (Conviasa), or any entity in which Conviasa owns, directly or indirectly, a 50 percent or greater interest, that are prohibited by Executive Order (E.O.) 13850, as amended by E.O. 13857, or E.O. 13884, each as incorporated into the Venezuela Sanctions Regulations, 31 CFR part 591 (the VSR), are authorized.

(b) This general license does not authorize any transactions otherwise prohibited by the VSR, including any transactions involving any person blocked pursuant to the VSR other than the blocked persons described in paragraph (a) of this general license, Government of Venezuela persons blocked solely pursuant to E.O. 13884, Banco Central de Venezuela, or Banco de Venezuela SA Banco Universal.

Bradley T. Smith,

Director, Office of Foreign Assets Control.

Dated: October 18, 2023.
Bradley T. Smith,
Director, Office of Foreign Assets Control.

[FR Doc. 2023-24831 Filed 11-6-23; 4:15 pm]

BILLING CODE 4810-AL-P